DEPARTMENT OF ENERGY

Federal Energy Regulatory Commission

[Project No. 2342-011]

Pacific Corp; Notice of Deadline for Answers and Reply Comments

March 30, 2000.

The Commission's February 2, 2000, Notice of Offer of Settlement and Application for Amendment of License, as clarified by a notice issued on March 9, 2000, set a deadline for filing comments and or motions in Project No. P-2342-011 of March 27, 2000. The deadline for filing answers and reply comments to filings submitted in response to the February 2 notice is April 11, 2000.

Linwood A. Watson, Jr.,
Acting Secretary.

[FR Doc. 00-8294 Filed 4-4-00; 8:45 am]

BILLING CODE 6717-01-M